DEPARTMENT OF HEALTH AND HUMAN SERVICES

National Institutes of Health

Proposed Collection; Comment Request; Customer Satisfaction With Educational Programs and Products of the National Cancer Institute

Summary: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Customer Satisfaction with Educational Programs and Products of the National Cancer Institute.

Type of Information Collection Request: EXTENSION (OMB#0925-0526, expires 2/28/07).

Need and Use of Information Collection: The Office of Communications and Education (OCE) of the National Cancer Institute (NCI) is responsible for the design, implementation, and evaluation of education programs over the entire cancer continuum, including prevention, screening, diagnosis, treatment, survivorship, and palliative care; it also manages NCI initiatives that address specific challenges in cancer research and treatment. To help ensure the relevance, utility, and appropriateness of the many educational programs and products that OCE and NCI produce, OCE intends to collect information on customer satisfaction with those products through customer satisfaction surveys. By obtaining information from customers on the extent to which materials satisfy their needs, OCE and NCI will be able to systematically establish and follow a feedback loop that provides useful information to revise and enhance educational programs and products so that they attain maximum relevance, utility, appropriateness, and impact. Data will be collected through various means, including telephone, mail, in-person, and web-based surveys.

Frequency of Response: On occasion.

Affected Public: Individuals or households, organizations involved in providing health care services.

Type of Respondents: Health care consumers of NCI educational programs or products, including cancer patients and families, health care professionals, cancer control planners, and policymakers.

The estimated annual burden hours are as follows:

Product | Average sample size | Frequency of response | Average duration (hours) | Estimated total burden requested (hours)
40 different products | 450 | 1 | 0.1 | 1800

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

For Further Information Contact: To request more information on the proposed project, contact Nina Goodman, Senior Analyst, Office of Communications and Education, NCI, NIH, 6116 Executive Blvd., Suite 400, Rockville, MD 20852, call non-toll-free number 301-435-7789 or e-mail your request to: goodman@mail.nih.gov.

Comments Due Date: Comments regarding this information collection are best assured of having their full effect if received within 60 days of the date of this publication.

Dated: February 7, 2007.
Rachelle Ragland-Greene,
NCI Project Clearance Liaison, National Institutes of Health.

[FR Doc. E7-2886 Filed 2-20-07; 8:45 am]

BILLING CODE 4140-01-P